DEPARTMENT OF HEALTH AND HUMAN SERVICES

Centers for Disease Control and Prevention

Board of Scientific Counselors, Coordinating Center for Infectious Diseases: Notice of Charter Amendment

This gives notice under the Federal Advisory Committee Act (Pub. L. 92-463) of October 6, 1972, that the Board of Scientific Counselors, Coordinating Center for Infectious Diseases, Department of Health and Human Services, has amended their charter to reflect the change in the name of the board to the Board of Scientific Counselors, Office of Infectious Diseases.

For information, contact Robin Mosely, M.A., Designated Federal Officer, Board of Scientific Counselors, Office of Infectious Diseases, CDC, 1600 Clifton Road, NE., Mailstop D10, Atlanta, Georgia 30333, telephone 404/639-4461 or fax 404/639-1255.

The Director, Management Analysis and Services Office, has been delegated the authority to sign Federal Register notices pertaining to announcements of meetings and other committee management activities, for both the CDC and the Agency for Toxic Substances and Disease Registry.

Dated: August 4, 2010
Elaine L. Baker,
Director, Management Analysis and Services Office, Centers for Disease Control and Prevention.

[FR Doc. 2010-19908 Filed 8-11-10; 8:45 am]

BILLING CODE 4163-18-P